DEPARTMENT OF THE INTERIOR

National Park Service

[NPS-WASO-NAGPRA-NPS0024987; PPWOCRADN0-PCU00RP14.R50000]

Notice of Inventory Completion: Utah Museum of Natural History, Salt Lake City, UT

AGENCY: National Park Service, Interior.

ACTION: Notice.

SUMMARY: The Utah Museum of Natural History has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Utah Museum of Natural History. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Utah Museum of Natural History at the address in this notice by March 26, 2018.

ADDRESSES: Michelle Knoll, Utah Museum of Natural History, 301 Wakara Way, Salt Lake City, UT 84108, telephone (801) 581-3876, email mknoll@nhmu.utah.edu.

SUPPLEMENTARY INFORMATION: Notice is here given in accordance with the Native American Graves Protection and Repatriation Act (NAGPRA), 25 U.S.C. 3003, of the completion of an inventory of human remains under the control of the Utah Museum of Natural History, Salt Lake City, UT. The human remains were removed from 42WS50 (Three Mile Ruin), Washington County, UT.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Utah Museum of Natural History professional staff in consultation with representatives of the Hopi Tribe of Arizona and the Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)), hereafter referred to as “The Consulted Tribes.” Requests for consultation were also sent to the Havasupai Tribe of the Havasupai Reservation, Arizona; Hualapai Indian Tribe of the Hualapai Indian Reservation, Arizona; Kaibab Band of Paiute Indians of the Kaibab Indian Reservation, Arizona; Las Vegas Tribe of Paiute Indians of the Las Vegas Indian Colony, Nevada; Moapa Band of Paiute Indians of the Moapa River Indian Reservation, Nevada; Navajo Nation, Arizona, New Mexico, and Utah; Pueblo of Jemez, New Mexico; Pueblo of Pojoaque, New Mexico; Pueblo of Zia, New Mexico; San Juan Southern Paiute Tribe of Arizona; and the Zuni Tribe of the Zuni Reservation, New Mexico, (hereafter referred to as “The Invited Tribes”).

History and Description of the Remains

In 1962, human remains representing one individual were removed by the University of Utah from privately-owned land near the town of Ivins, Washington County, UT. The individual was transferred to the Utah Museum of Natural History in 1973. The highly fragmented remains of a juvenile's mandible and several teeth were recovered from a pit in a room block on a Virgin Branch Puebloan site, which had at least two occupations dating from A.D. 1050-1300. The circumstances of the burial suggest that the pit was not intended for the individual and that the partial human remains washed or blew into the pit after the site's abandonment. No associated funerary objects were identified. No known individuals were identified.

In addition to the Virgin Branch Puebloan occupation, the Southern Paiute have occupied the immediate area since A.D. 1400, possibly earlier. The questionable context of the burial precludes any determination of cultural affiliation given the current evidence, other than Native American, which was confirmed through dental analysis.

Determinations Made by the Utah Museum of Natural History

Officials of the Utah Museum of Natural History have determined that:

• Pursuant to 25 U.S.C. 3001(9), the human remains described in this notice represent the physical remains of one individual of Native American ancestry, based on dental morphology.

• Pursuant to 25 U.S.C. 3001(2), a relationship of shared group identity cannot be reasonably traced between the Native American human remains and any present-day Indian Tribe.

• According to final judgments of the Indian Claims Commission or the Court of Federal Claims, the land from which the Native American human remains were removed is the aboriginal land of Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)).

• Treaties, Acts of Congress, or Executive Orders, indicate that the land from which the Native American human remains were removed is the aboriginal land of the Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)).

• Pursuant to 43 CFR 10.11(c)(1), the disposition of the human remains may be to the Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)).

Additional Requestors and Disposition

Representatives of any Indian Tribe or Native Hawaiian organization not identified in this notice that wish to request transfer of control of these human remains should submit a written request with information in support of the request to Michelle Knoll, Utah Museum of Natural History, 301 Wakara Way, Salt Lake City, UT 84108, telephone (801) 581-3876, email mknoll@nhmu.utah.edu, by March 26, 2018. After that date, if no additional requestors have come forward, transfer of control of the human remains to the Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)) may proceed.

The Utah Museum of Natural History is responsible for notifying The Consulted Tribes and The Invited Tribes that this notice has been published.

Dated: February 2, 2018.
Melanie O'Brien,
Manager, National NAGPRA Program.

[FR Doc. 2018-03754 Filed 2-22-18; 8:45 am]

BILLING CODE 4312-52-P